DEPARTMENT OF THE INTERIOR

Fish and Wildlife Service

Conference of the Parties to the Convention on International Trade in Endangered Species of Wild Fauna and Flora (CITES); Thirteenth Regular Meeting; Proposed Resolutions, Decisions, and Agenda Items Being Considered; Taxa Being Considered for Amendments to the CITES Appendices; Public Meeting; Observer Information

AGENCY: Fish and Wildlife Service, Interior.

ACTION: Notice.

SUMMARY: The United States, as a Party to the Convention on International Trade in Endangered Species of Wild Fauna and Flora (CITES), may submit proposed resolutions, decisions, and agenda items for consideration at meetings of the Conference of the Parties to CITES. The United States may also propose amendments to the CITES Appendices for consideration at meetings of the Conference of the Parties. The thirteenth regular meeting of the Conference of the Parties to CITES (COP13) will be held in Bangkok, Thailand, October 2-14, 2004.

With this notice, we: list proposed resolutions, proposed decisions, and agenda items that the United States is considering submitting for consideration at COP13; list proposed amendments to the CITES Appendices (species proposals) that the United States is considering submitting for consideration at COP13; invite your comments and information on these potential proposals; announce a public meeting to discuss these potential proposals; and provide information on how non-governmental organizations based in the United States can attend COP13 as observers. We have posted an extended version of this notice on our Web site at http://international.fws.gov, with text describing each of these issues and explaining the rationale for the tentative U.S. position on each issue.

DATES: The public meeting will be held on February 5, 2004, at 1:30 p.m. We will consider written information and comments you submit concerning potential species proposals, proposed resolutions, proposed decisions, and agenda items that the United States is considering submitting for consideration at COP13, and other items relating to COP13, if we receive them by March 12, 2004.

ADDRESSES: Public Meeting: The public meeting will be held in the Rachel Carson Room, in the Department of the Interior at 18th and C Streets, NW., Washington, DC. Directions to the building can be obtained by contacting the Division of Management Authority (see FOR FURTHER INFORMATION CONTACT, below).

Please note that the Rachel Carson Room is accessible to the handicapped and all persons planning to attend the meeting will be required to present photo identification when entering the building. Persons who plan to attend the meeting and who require interpretation for the hearing impaired should notify the Division of Management Authority as soon as possible.

Comment Submission: Comments pertaining to proposed resolutions, proposed decisions, and/or agenda items should be sent to the Division of Management Authority; U.S. Fish and Wildlife Service; 4401 North Fairfax Drive; Room 700; Arlington, VA 22203; or via E-mail at: citescop13@fws.gov; or via fax at: 703-358-2298. Comments pertaining to species proposals should be sent to the Division of Scientific Authority; U.S. Fish and Wildlife Service; 4401 North Fairfax Drive; Room 750; Arlington, VA 22203; or via E-mail at: scientificauthority@fws.gov; or via fax at: 703-358-2276. Comments and materials received will be available for public inspection, by appointment, from 8 a.m. to 4 p.m., Monday through Friday, at either the Division of Management Authority or the Division of Scientific Authority.

FOR FURTHER INFORMATION CONTACT: For information pertaining to resolutions, decisions, and agenda items: Peter O. Thomas, Chief, Division of Management Authority; phone: 703-358-2095; fax: 703-358-2298; E-mail: citescop13@fws.gov. For information pertaining to species proposals: Robert R. Gabel, Chief, Division of Scientific Authority; phone 703-358-1708; fax 703-358-2276; E-mail: scientificauthority@fws.gov.

SUPPLEMENTARY INFORMATION:

Background

The Convention on International Trade in Endangered Species of Wild Fauna and Flora, hereinafter referred to as CITES or the Convention, is an international treaty designed to control and regulate international trade in certain animal and plant species that are now or potentially may be threatened with extinction. These species are listed in Appendices to CITES, which are available on the CITES Secretariat's Web site at http://www.cites.org/eng/append/index.shtml. Currently, 164 countries, including the United States, are Parties to CITES. The Convention calls for biennial meetings of the Conference of the Parties, which reviews its implementation, makes provisions enabling the CITES Secretariat in Switzerland to carry out its functions, considers amendments to the list of species in Appendices I and II, considers reports presented by the Secretariat, and makes recommendations for the improved effectiveness of CITES. Any country that is a Party to CITES may propose amendments to Appendices I and II, resolutions, decisions, and/or agenda items for consideration by all the Parties.

This is our second in a series of Federal Register notices that, together with announced public meetings, provide you with an opportunity to participate in the development of the U.S. negotiating positions for the thirteenth regular meeting of the Conference of the Parties to CITES (COP13). We published our first such Federal Register notice on June 19, 2003 (68 FR 36831), and with it we requested information and recommendations on species proposals, proposed resolutions, proposed decisions, and agenda items for the United States to consider submitting for consideration at COP13.

You may obtain information on that Federal Register notice from the following sources: for information on proposed resolutions, proposed decisions, and agenda items, contact the Division of Management Authority at the above address; and for information on species proposals, contact the Division of Scientific Authority at the above address. Our regulations governing this public process are found in 50 CFR 23.31-23.39.

COP13 is scheduled to be held in Bangkok, Thailand, October 2-14, 2004.

I. Recommendations for Resolutions, Decisions, and Agenda Items for the United States To Consider Submitting for COP13

In our Federal Register notice published on June 19, 2003 (68 FR 36831), we requested information and recommendations on potential resolutions, decisions, and agenda items for the United States to submit for consideration at COP13. We received recommendations for resolutions, decisions, and agenda items from the following organizations: Defenders of Wildlife; TRAFFIC North America; and the World Wildlife Fund.

We considered all of the recommendations of the above organizations, as well as the U.S. approach for COP13 discussed in our June 19, 2003, Federal Register notice, when compiling a list of possible resolutions, decisions, and agenda items that the United States is likely to submit for consideration by the Parties at COP13, and lists of resolutions, decisions, and agenda items for consideration at COP13 that the United States either is currently undecided about submitting, is not considering submitting at this time, or plans to address in other ways. The United States may consider submitting documents for some of the issues for which it is currently undecided or not considering submitting at this time, depending on the outcome of discussions of these issues in the CITES Animals, Plants, and Standing Committees, or additional consultations with range country governments and knowledgeable experts.

Please note that, in sections A, B, and C below, we have listed only those resolutions, decisions, and agenda items that the United States is likely to submit, currently undecided about submitting, or currently not planning to submit. We have posted an extended version of this notice on our Web site at http://international.fws.gov, with text describing each of these issues and explaining the rationale for the tentative U.S. position on each issue. Copies of the extended version of the notice are also available from the Division of Management Authority at the above address.

We welcome your submissions of comments and information regarding the resolutions, decisions, and agenda items that the United States is likely to submit, currently undecided about submitting, or currently planning not to submit.

A. What Resolutions, Decisions, and Agenda Items Is the United States Likely To Submit for Consideration at COP13?

1. A discussion document or proposed resolution on the issue of “introduction from the sea.”

2. A proposed revision of Resolution Conf. 4.25, on effects of reservations.

3. A proposed revision of Resolution Conf. 5.11, on the definition of the term “pre-Convention specimen.”

4. A proposed revision of Resolution Conf. 10.13, on implementation of the Convention for timber species, to address plywood.

5. A proposed revision of Resolution Conf. 9.21, on quotas for Appendix-I species.

B. On What Resolutions, Decisions, and Agenda Items Is the United States Still Undecided, Pending Additional Information and Consultations?

1. Agenda item to allow reports on activities related to seahorse management.

2. Document on the issue of cooperation between CITES and the Food and Agriculture Organization of the United Nations (FAO).

3. Proposed resolution or discussion document on whaling and whale stocks.

4. Document on the Implementation Working Group.

5. Proposed revision of Resolution Conf. 12.3, to include timber identification marks and numbers on CITES timber permits and certificates.

6. Proposed revision of Resolution Conf. 11.11, on regulation of trade in plants.

7. Proposed resolution on the facilitated movement of samples.

8. Document on Appendix-II export quotas.

9. Proposed resolution clarifying the use of the “ranching” code on CITES permits and certificates.

C. What Resolutions, Decisions, and Agenda Items Is the United States Not Planning To Submit for Consideration at COP13, Unless We Receive Significant Additional Information?

1. Document on the live reef food fish trade.

2. Document to provide guidance concerning trade with non-Parties.

3. Agenda items to discuss the issues of clarification of the term “primarily commercial purposes” and the relationship between in situ and ex situ conservation for Appendix-I species.

4. Agenda item to discuss the issue of the authority and scope of activity for the CITES Secretariat.

5. Agenda item to discuss model Terms of Reference for CITES working groups.

II. Recommendations for Species Proposals for the United States to Consider Submitting for COP13

In our Federal Register notice of June 19, 2003 (68 FR 36831), we requested information and recommendations on potential species amendments for the United States to consider proposing for COP13. We received recommendations from the public for possible proposals involving 46 taxa (1 family and 45 individual species). We note, however, that a number of comments involved statements of support or disagreement for given species proposals, with no biological or trade information supporting such statements. We have undertaken initial assessments of the available trade and biological information on all of these taxa. Based on these assessments, we have made provisional determinations of whether or not to proceed with the development of proposals to list or delist species, or transfer them from one Appendix to another. These determinations were made by considering the quality of biological and trade information available on the species; the presence, absence, and effectiveness of other mechanisms that may preclude the need for a CITES listing (e.g., range country actions or other international agreements); and availability of resources. Furthermore, our assignment of a taxon to one of these categories, which reflects the likelihood of our submitting a proposal, included consideration of the following factors, which reflect the U.S. approach for COP13 discussed in our June 19, 2003, Federal Register notice:

(1) Is it a native U.S. species that is or may be significantly affected by trade, or if it is a currently listed U.S. species, does the listing accurately reflect the biological and trade status of the species?

(2) Is it a native U.S. species that is not at this time significantly impacted by trade within the United States, but is being significantly impacted elsewhere in its range?

(3) Is it a foreign species, not native to the United States, but which is or may be significantly affected by trade, and the United States is a significant component of the trade (i.e., as an importing country)?

(4) Is it a species for which the United States is neither a range country nor a country significantly involved in trade, but for which trade is a serious threat to the continued existence of the species, other mechanisms are lacking or ineffective for bringing trade under control, and action is urgently needed?

In sections A, B, and C below, we have listed the current status of each species proposal recommended by the public, as well as species proposals we have been developing on our own. Please note that we have only listed these possible proposals. We have posted an extended version of this notice on our Web site at http://international.fws.gov, with text describing each possible proposal and explaining the rationale for the tentative U.S. position on each possible proposal. Copies of the extended version of the notice are also available from the Division of Management Authority at the above address.

A. What Species Proposals Is the United States Likely To Submit for Consideration at COP13?

The United States is likely to develop and submit proposals for the following taxa. We welcome your comments, especially any biological or trade information on these species. For each species, more detailed information is on file with the Division of Scientific Authority. For some of the species below, particularly those not native to the United States, additional consultations with range countries and knowledgeable experts are proceeding (see discussion), and final decisions are pending, based on the outcomes of those consultations and any additional information received.

Plants

1. Asian yews (Taxus spp.)—Proposal for inclusion of additional species in Appendix II and removal of the annotation from Taxus wallichiana.

Fish

2. Humphead wrasse (Cheilinus undulatus)—Proposal for inclusion in Appendix II.

Reptiles and Amphibians

3. Asian Freshwater Turtles and Tortoises—Proposals for inclusion in Appendices I and II.

Birds

4. Bald eagle (Haliaeetus leucocephalus)—Proposal for transfer from Appendix I to Appendix II.

5. Black-winged lovebird (Agapornis taranta) and peach-faced lovebird (Agapornis roseicollis)—Proposal for removal from Appendix II.

B. On What Species Proposals is the United States Still Undecided, Pending Additional Information and Consultations?

The United States is still undecided on whether to submit proposals for COP13 for the following taxa. In some cases, we have not completed our consultations with relevant range countries. In other cases, meetings of experts are expected to occur in the immediate future and generate important recommendations, trade analyses, or biological information on the taxon in question. For each species, more detailed information is available from the Division of Scientific Authority. We welcome your comments, and especially any biological and trade information on these species.

Invertebrates

1. Sea cucumbers (Families Holothuridae and Stichopodidae)—Action awaiting outcome of workshop in early 2004.

2. Eastern Hemisphere tarantulas (Poecilotheria spp.)—Proposal for inclusion in Appendix II.

Fish

3. Spiny dogfish (Squalus acanthias)—Proposal for inclusion in Appendix II.

4. Sharks (Class Chondrichthyes)—Proposal for inclusion in Appendix II.

Birds.

5. Painted bunting (Passerina ciris)—Proposal for inclusion in Appendix I or II.

6. Finsch's amazon (Amazona finschi)—Proposal for transfer from Appendix II to Appendix I.

7. African grey parrot (Psittacus erithacus)—Proposal to transfer from Appendix II to Appendix I.

Mammals

8. Bobcat (Lynx rufus)—Proposal for removal from Appendix II.

C. What Species Proposals is the United States Not Planning to Submit for Consideration at COP13, Unless It Receives Significant Additional Information?

The United States does not intend to submit proposals for the following taxa unless we receive significant additional information indicating that a proposal is warranted. Information currently available for each of the taxa listed below does not support a defensible listing proposal. We welcome your comments, especially any biological and trade information on these species that may cause us to reconsider the submission of a proposal. For each species, more detailed information is available from the Division of Scientific Authority.

Plants

1. Alerce (Fitzroya cupressoides)—Proposal for transfer from Appendix I to Appendix II.

Fish

2. Orange roughy (Hoplostethus atlanticus)—Proposal for inclusion in Appendix II.

3. Patagonian toothfish (Dissostichus eleginoides) and Antarctic toothfish (Dissostichus mawsonii)—Proposal for inclusion in Appendix II.

4. White shark (Carcharadon carcharias)—Proposal for inclusion in Appendix I or II.

5. Hound sharks (Family Triakidae)—Proposal for inclusion in Appendix II.

Birds

6. Loggerhead shrike (Lanius ludovicianus), lark sparrow (Chondestes grammacus), and black-throated sparrow (Amphispiza bilineata)—Proposal for inclusion in Appendix I; curve-billed thrasher (Toxostoma curvirostre), lark bunting (Calamospiza melanocorys), white-crowned sparrow (Zonotrichia leucophrys), Northern cardinal (Cardinalis cardinalis), pyrrhuloxia (Cardinalis sinuatus), blue grosbeak (Guiraca caerulea), lazuli bunting (Passerina amoena), indigo bunting (Passerina), dickcissel (Spiza americana), orchard oriole (Icterus spurious), pine siskin (Carduelis pinus), lesser goldfinch (Carduelis psaltria), and American goldfinch (Carduelis tristis)—Proposal for inclusion in Appendix II.

7. Yellow-crested cockatoo (Cacatua sulphurea)—Proposal for transfer from Appendix II to Appendix I.

Mammals

8. Saiga antelope (Saiga tatarica)—Proposal for transfer from Appendix II to Appendix I.

Request for Information and Comments

We invite any information and comments concerning any of the possible COP13 species proposals, resolutions, decisions, and agenda items discussed above. You must submit your information and comments to us no later than March 12, 2004, to ensure that we consider them.

Announcement of Public Meeting

We announce that we will hold a public meeting to discuss with you species proposals, as well as proposed resolutions, proposed decisions, and agenda items that the United States is considering submitting for consideration at COP13. The public meeting will be held on February 5, 2004, from 1:30 p.m. to 4 p.m. in the Rachel Carson Room of the Department of the Interior at 18th and C Streets, NW., Washington, DC. You can obtain directions to the building by contacting the Division of Management Authority (see FOR FURTHER INFORMATION CONTACT, above). The Rachel Carson Room is accessible to the handicapped. Persons planning to attend the meeting who require interpretation for the hearing impaired should notify the Division of Management Authority as soon as possible.

Observers

Article XI, paragraph 7 of CITES states the following:

“Any body or agency technically qualified in protection, conservation or management of wild fauna and flora, in the following categories, which has informed the Secretariat of its desire to be represented at meetings of the Conference by observers, shall be admitted unless at least one-third of the Parties present object:

(a) international agencies or bodies, either governmental or non-governmental, and national governmental agencies and bodies; and

(b) national non-governmental agencies or bodies which have been approved for this purpose by the State in which they are located.

Once admitted, these observers shall have the right to participate but not to vote.”

Persons wishing to be observers representing international non-governmental organizations (which must have offices in more than one country) at COP13 may request approval directly from the CITES Secretariat. Persons wishing to be observers representing U.S. national non-governmental organizations at COP13 must receive prior approval from our Division of Management Authority. Once we grant our approval, a U.S. national non-governmental organization is eligible to register with the Secretariat and must do so at least one month prior to the opening of COP13 to participate in COP13 as an observer. Individuals who are not affiliated with an organization may not register as observers. An international non-governmental organization with at least one office in the United States may register as a U.S. non-governmental organization if it prefers.

A request submitted to us for approval as an observer should include evidence of technical qualifications in protection, conservation, or management of wild fauna and/or flora, on the part of both the organization and the individual representative(s). The request should also include copies of the organization's charter and/or bylaws, and a list of representatives it intends to send to COP13. An organization that we have previously approved as an observer at a meeting of the Conference of the Parties within the past 5 years must submit a request, but does not need to provide as much detailed information concerning its qualifications as an organization seeking approval for the first time. Organizations seeking approval for the first time should detail their experience in the protection, conservation, or management of wild fauna and/or flora, as well as their purposes for wishing to participate in COP13 as an observer. These requests should be sent to the Division of Management Authority (see ADDRESSES, above).

Once we approve an organization as an observer, we will send the organization instructions for registration with the CITES Secretariat in Switzerland, including a meeting registration form and relevant travel and hotel information. Any organization requesting approval for observer status at COP13 will be added to our CITES Mailing List if it is not already included, and will receive notice of all future Federal Register notices and other information pertaining to COP13. A list of organizations approved for observer status at COP13 will be available upon request from the Division of Management Authority just prior to the start of COP13.

Future Actions

We expect the CITES Secretariat to provide us with a provisional agenda for COP13 within the next several months. Once we receive the provisional agenda, we will publish it in a Federal Register notice. We will also provide it through our Web site at http://international.fws.gov.

The United States must and will submit any species proposals, proposed resolutions, proposed decisions, and agenda items for consideration at COP13 to the CITES Secretariat 150 days prior to the start of the meeting (i.e., by May 5, 2004). We will consider all available information and comments, including those presented at the public meeting (see DATES above) or received in writing during the comment period, in deciding which species proposals, proposed resolutions, proposed decisions, and agenda items warrant submission by the United States for consideration by the Parties. Approximately 4 months prior to COP13, we will post on our Web site an announcement of the species proposals, proposed resolutions, proposed decisions, and agenda items submitted by the United States to the CITES Secretariat for consideration at COP13.

Through an additional notice and Web site posting in advance of COP13, we will inform you about preliminary negotiating positions on resolutions, decisions, and amendments to the Appendices proposed by other Parties for consideration at COP13. We will also publish an announcement of a public meeting tentatively to be held approximately 2 months prior to COP13, to receive public input on our positions regarding COP13 issues.

Author: The primary authors of this notice are Mark Albert, Division of Management Authority; and Karen Anderson, Division of Scientific Authority; under the authority of the U.S. Endangered Species Act of 1973, as amended (16 U.S.C. 1531 et seq.).

Dated: December 31, 2003.
Steve Williams,
Director.

[FR Doc. 04-537 Filed 1-9-04; 8:45 am]

BILLING CODE 4310-55-P